DEPARTMENT OF ENERGY

Federal Energy Regulatory Commission

Combined Notice of Filings #2

Take notice that the Commission received the following electric rate filings:

Docket Numbers: ER17-1840-000.

Applicants: Canton Mountain Wind, LLC.

Description: Supplement to June 15, 2017 Canton Mountain Wind, LLC tariff filing.

Filed Date: 8/11/17.

Accession Number: 20170811-5094.

Comments Due: 5 p.m. ET 8/21/17.

Docket Numbers: ER17-1879-001.

Applicants: New York Independent System Operator, Inc.

Description: Tariff Amendment: Amendment to June 21, 2017 Ramapo PAR 205 (FID 1299) to be effective 7/1/2017.

Filed Date: 8/11/17.

Accession Number: 20170811-5098.

Comments Due: 5 p.m. ET 9/1/17.

Docket Numbers: ER17-2286-000.

Applicants: New York Independent System Operator, Inc.

Description: § 205(d) Rate Filing: 205 filing re: Testing of automated fuel swap capability to be effective 11/1/2017.

Filed Date: 8/11/17.

Accession Number: 20170811-5060.

Comments Due: 5 p.m. ET 9/1/17.

Docket Numbers: ER17-2287-000.

Applicants: NorthWestern Corporation.

Description: § 205(d) Rate Filing: SA 827—Agreement for Remediation with GFDA and GFAP (Agritech Park Addition) to be effective 8/12/2017.

Filed Date: 8/11/17.

Accession Number: 20170811-5061.

Comments Due: 5 p.m. ET 9/1/17.

Docket Numbers: ER17-2288-000.

Applicants: Oklahoma Gas and Electric Company.

Description: § 205(d) Rate Filing: Update Depreciation Rates in Transmission Formula Rate to be effective 6/1/2017.

Filed Date: 8/11/17.

Accession Number: 20170811-5070.

Comments Due: 5 p.m. ET 9/1/17.

Docket Numbers: ER17-2289-000.

Applicants: ISO New England Inc.

Description: ISO New England Inc. submits Second Quarter 2017 Capital Budget Report.

Filed Date: 8/11/17.

Accession Number: 20170811-5120.

Comments Due: 5 p.m. ET 9/1/17.

Docket Numbers: ER17-2290-000.

Applicants: Old Dominion Electric Cooperative.

Description: Initial rate filing: Reactive Supply and Voltage Control from Generation Service—Wildcat Point to be effective 10/10/2017.

Filed Date: 8/11/17.

Accession Number: 20170811-5127.

Comments Due: 5 p.m. ET 9/1/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 11, 2017.
Nathaniel J. Davis, Sr.,
Deputy Secretary.

[FR Doc. 2017-17474 Filed 8-17-17; 8:45 am]

BILLING CODE 6717-01-P